ARCHITECTURAL AND TRANSPORTATION BARRIERS COMPLIANCE BOARD

36 CFR Part 1196

[Docket No. 2007-03]

RIN 3014-AA22

Passenger Vessel Emergency Alarms Advisory Committee

AGENCY: Architectural and Transportation Barriers Compliance Board.

ACTION: Notice of establishment; appointment of members; date of first meeting.

SUMMARY: The Architectural and Transportation Barriers Compliance Board (Access Board) has decided to establish an advisory committee to make recommendations on issues related to the effectiveness of emergency alarm systems for individuals with hearing loss or deafness on passenger vessels. This notice also announces the time and place of the first Committee meeting.

DATES: The first meeting of the Committee is scheduled for September 19 and 20, 2007 from 9 a.m. to 5 p.m. on both days. Decisions with respect to future meetings will be made at the first meeting and from time to time thereafter. Notices of future meetings will be published in the Federal Register.

ADDRESSES: The first meeting of the Committee will be held at the Access Board's offices, 1331 F Street, NW., Suite 1000, Washington, DC.

FOR FURTHER INFORMATION CONTACT: Paul Beatty, Office of Technical and Information Services, Architectural and Transportation Barriers Compliance Board, 1331 F Street, NW., Suite 1000, Washington, DC 2004-1111. Telephone number (202) 272-0012 (Voice); (202) 272-0082 (TTY). These are not toll-free numbers. E-mail address: pvag@access-board.gov.

SUPPLEMENTARY INFORMATION: On June 25, 2007, the Architectural and Transportation Barriers Compliance Board (Access Board) published a notice of intent to establish an advisory committee to make recommendations on issues related to the effectiveness of emergency alarm systems for individuals with hearing loss or deafness on passenger vessels. (72 FR 34653; June 25, 2007). The notice identified the interests that are likely to be significantly affected by this rulemaking:

• Individuals with hearing loss or deafness, and other individuals with disabilities concerned about emergency alarm systems on passenger vessels;

• Passenger vessel operators;

• Manufacturers and designers of emergency alarm systems on passenger vessels; and

• Voluntary codes and standards groups which address emergency alarms on passenger vessels.

For the reasons stated in the notice of intent, the Access Board has determined that establishing the Passenger Vessel Emergency Alarms Advisory Committee (Committee) is necessary and in the public interest. The Access Board has appointed the following organizations as members to the Committee:

• Community Emergency Preparedness Information Network.

• Cruise Lines International Association.

• Epilepsy Foundation.

• Gallaudet University.

• Hearing Access Program.

• Hearing Loss Association of America.

• National Association of the Deaf.

• National Fire Protection Association.

• Passenger Vessel Association.

• Society of Naval Architects and Marine Engineers.

Committee meetings will be open to the public and interested persons can attend the meetings and communicate their views. Members of the public will have opportunities to address the Committee on issues of interest to them and the Committee. Members of groups or individuals who are not members of the Committee may also have the opportunity to participate with subcommittees of the Committee. The Access Board believes that participation of this kind can be very valuable for the advisory committee process. Additionally, all interested persons will have the opportunity to comment when proposed rules regarding passenger vessel accessibility are issued in the Federal Register by the Access Board.

The meeting site is accessible to individuals with disabilities. Sign language interpreters, an assistive listening system, and computer assisted real-time transcription (CART) will be provided. Persons attending the meeting are requested to refrain from using perfume, cologne, and other fragrances for the comfort of other participants.

Tricia Mason,
Chair, Architectural and Transportation Barriers Compliance Board.

[FR Doc. 07-3934 Filed 8-10-07; 8:45 am]

BILLING CODE 8150-01-M